DEPARTMENT OF COMMERCE

International Trade Administration

[C-570-980]

Crystalline Silicon Photovoltaic Cells, Whether or Not Assembled Into Modules, from the People's Republic of China: Notice of Correction to Preliminary Results of Countervailing Duty Administrative Review; 2012 and Partial Rescission of Countervailing Duty Administrative Review

AGENCY: Enforcement and Compliance, International Trade Administration, Department of Commerce.

DATES: Effective Date: February 18, 2015.

FOR FURTHER INFORMATION CONTACT: Andrew Huston, Office VII, AD/CVD Operations, Enforcement and Compliance, International Trade Administration, U.S. Department of Commerce, 14th Street and Constitution Avenue NW., Washington, DC 20230; telephone: (202) 482-4261.

SUPPLEMENTARY INFORMATION:

On January 8, 2015, the Department of Commerce published in the Federal Register its notice of preliminary results and partial rescission for the countervailing duty administrative review of crystalline silicon photovoltaic cells, whether or not assembled into modules, from the People's Republic of China for the period of review March 26, 2012, through December 31, 2012.¹ Appendices to this notice, which listed companies for which the administrative review was rescinded and companies for which the administrative review would continue, inadvertently contained certain errors and omissions. Corrected versions of Appendix II, listing companies for which the review has been rescinded, and Appendix III, listing companies for which the review will continue, not selected for individual review, are attached to this notice. No other changes have been made to the Preliminary Results.

¹ See Crystalline Silicon Photovoltaic Cells, Whether or Not Assembled Into Modules, from the People's Republic of China: Preliminary Results of Countervailing Duty Administrative Review; 2012; and Partial Rescission of Countervailing Duty Administrative Review, 80 FR 1019 (January 8, 2015) (Preliminary Results).

This corrected preliminary results and partial rescission is issued and published in accordance with section 751 of the Tariff Act of 1930, as amended, and 19 CFR 351.213(d)(4).

Dated: February 6, 2015.
Paul Piquado,
Assistant Secretary for Enforcement and Compliance.

Appendix II

Companies for which review was rescinded

1. Aiko Solar

2. Amplesun Solar

3. Beijing Hope Industry

4. Best Solar Hi-tech

5. CEEG (Shanghai) Solar Science Technology Co., Ltd.

6. CEEG Nanjing Renewable Energy Co., Ltd.

7. China Sunergy (Nanjing) Co., Ltd.

8. China Sunergy

9. Chinalight Solar

10. CNPV Dongying Solar Power Co., Ltd.

11. Dai Hwa Industrial

12. EGing

13. ENN Solar Energy

14. General Solar Power

15. Golden Partner Development

16. Goldpoly (Quanzhou)

17. Hairun Photovoltaics Technology Co., Ltd

18. Hanwha Solar One (Qidong) Co., Ltd.

19. Hareon Solar Technology

20. HC Solar Power Co., Ltd.

21. JA Solar Technology Yangzhou Co., Ltd.

22. Jetion Solar (China) Co., Ltd.

23. Jia Yi Energy Technology

24. Jiasheng Photovoltaic Tech.

25. Jiangxi Green Power Co. Ltd.

26. Jiawei Solar Holding

27. Jiawei Solarchina Co. (Shenzhen), Ltd

28. JingAo Solar Co., Ltd.

29. Jiutai Energy

30. Linuo Photovoltaic

31. Ningbo Komaes Solar Technology Co., Ltd.

32. Perfectenergy

33. Polar Photovoltaics

34. Qiangsheng (QS Solar)

35. QXPV (Ningbo Qixin Solar Electrical Appliance Co., Ltd)

36. Refine Solar

37. Risen Energy Co, Ltd.

38. Risun Solar (JiangXi Ruijing Solar Power Co., Ltd.)

39. Sanjing Silicon

40. Shanghai Chaori Solar Energy

41. Shanghai JA Solar Technology Co., Ltd.

42. Shanghai Solar Energy Science & Technology Co., Ltd.

43. Shangpin Solar

44. Shanshan Ulica

45. Shenzhen Global Solar Energy Tech.

46. Shuqimeng Energy Tech

47. Skybasesolar

48. Solargiga Energy Holdings Ltd.

49. Sunflower

50. Sunlink PV

51. Sunvim Solar Technology

52. Tainergy Tech

53. tenKsolar (Shanghai) Co., Ltd.

54. Tianjin Jinneng Solar Cell

55. Topsolar

56. Trony

57. Weihai China Glass Solar

58. Wuxi Sun-shine Power Co., Ltd.

59. Wuxi University Science Park International Incubator Co., Ltd.

60. Yuhan Sinosola Science & Technology Co., Ltd.

61. Yuhuan Solar Energy Source Co., Ltd.

62. Yunnan Tianda

63. Yunnan Zhuoye Energy

64. Zhejinag Leye Photovoltaic Science and Technology Co., Ltd.

65. Zhejiang Top Point Photovoltaic Co., Ltd.

66. Zhejiang Wanxiang Solar Co, Ltd.

67. Zhenjiang Huantai Silicon Science and Technology Co., Ltd.

Appendix III

Companies for which review will continue, but not selected for individual review

1. Baoding Jiansheng Photovoltaic Technology Co., Ltd.

2. Boading Tianwei Yingli New Energy Resources Co., Ltd.

3. Beijing Tianneng Yingli New Energy Resources Co. Ltd.

4. Canadian Solar International Limited

5. Canadian Solar Manufacturing (Changshu) Inc.

6. Canadian Solar Manufacturing (Luoyang) Inc.

7. Changzhou NESL Solartech Co., Ltd.

8. Changzhou Trina Solar Energy Co., Ltd.

9. Chint Solar (Zhejiang) Co., Ltd.

10. CSG PVTech Co., Ltd.

11. DelSolar Co., Ltd.

12. De-Tech Trading Limited HK

13. Dongfang Electric (Yixing) MAGI Solar Power Technology Co., Ltd.

14. Eoplly New Energy Technology Co., Ltd.

15. Era Solar Co., Ltd.

16. ET Solar Energy Limited.

17. Hainan Yingli New Energy Resources Co., Ltd.

18. Hangzhou Zhejiang University Sunny Energy Science and Technology Co. Ltd.

19. Hendigan Group Dmegc Magnetics

20. Hengshui Yingli New Energy Resources Co., Ltd.

21. Himin Clean Energy Holdings Co., Ltd.

22. Innovosolar

23. Jiangsu Green Power PV Co., Ltd.

24. Jiangxi Sunlink PV Technology Ltd.

25. Jiangsu Jiasheng Photovoltaic Technology Co., Ltd.

26. Jiangsu Sunlink PV Technology Co., Ltd.

27. Jiawei Solarchina Co. Ltd.

28. Jinko Solar Co., Ltd.

29. Jinko Solar Import and Export Co., Ltd.

30. Jinko Solar International Limited

31. Konca Solar Cell Co., Ltd.

32. Kuttler Automation Systems (Suzhou) Co. Ltd.

33. LDK Solar Hi-tech (Suzhou) Co., Ltd.

34. LDK Solar Hi-tech (Nanchang)

35. Leye Photovoltaic Science & Technology Co., Ltd.

36. Lixian Yingli New Energy Resources Co., Ltd.

37. Luoyang Suntech Power Co., Ltd.

38. Magi Solar Technology

39. Motech (Suzhou) Renewable Energy Co., Ltd.

40. MS Solar Investments LLC

41. Ningbo Ulica Solar Science & Technology Co., Ltd.

42. Ningbo Qixin Solar Electrical Appliance Co. Ltd.

43. Ningbo ETDZ Holdings Ltd.

44. Perlight Solar Co., Ltd.

45. ReneSola

46. Renesola Jiangsu Ltd.

47. Shenzen Topray Solar Co., Ltd.

48. Shanghai Machinery Complete Equipment (Group) Corp., Ltd.

49. Shenglong PV Tech.

50. Shenzhen Suntech Power Co., Ltd.

51. ShunFeng PV

52. Solarbest Energy—Tech (Zhejiang) Co., Ltd.

53. Sopray Energy

54. Sumec Hardware & Tools Co., Ltd.

55. Sun Earth Solar Power Co., Ltd.

56. Suntech Power Co., Ltd.

57. Suzhou Shenglong PV-Tech Co., Ltd.

58. Tianwei New Energy (Chengdu) PV Module Co., Ltd.

59. Tianjin Yingli New Energy Resources Co, Ltd.

60. Trina Solar (Changzhou) Science & Technology Co, Ltd.

61. Topray

62. Upsolar Group, Co. Ltd.

63. Wanxiang Import & Export Co., Ltd.

64. Wuxi Sunshine Power

65. Wuxi Suntech Power Co., Ltd.

66. Yangzhou Rietech Renewal Energy Co., Ltd.

67. Yangzhou Suntech Power Co., Ltd.

68. Yingli Energy (China) Company Limited.

69. Yingli Green Energy International Trading Company Limited.

70. Zhejiang Jiutai New Energy Co. Ltd.

71. Zhejiang Shuqimeng Photovoltaic Technology Co., Ltd.

72. Zhejiang Xinshun Guangfu Science and Technology Co., Ltd.

73. Zhejiang ZG-Cells Co, Ltd.

74. Zhenjiang Rietech New Energy Science & Technology Co., Ltd.

75. Zhiheng Solar Inc.

76. Zhejiang Sunflower Light Energy Sciences & Technology Limited Liability Company

[FR Doc. 2015-03340 Filed 2-17-15; 8:45 am]

BILLING CODE 3510-DS-P